DEPARTMENT OF THE INTERIOR

Office of the Secretary

[156D0102DM DMSN000000.000000 DS10700000 DX.10701.CEN00000]

Renewal of Information Collection for the Source Directory of American Indian and Alaska Native Owned and Operated Arts and Crafts Businesses

AGENCY: Indian Arts and Crafts Board, Department of the Interior.

ACTION: Notice and request for comments.

SUMMARY: The Indian Arts and Crafts Board (IACB) collects information to identify and revise listings for the Source Directory of American Indian and Alaska Native Owned and Operated Arts and Crafts Businesses (Source Directory). In compliance with the Paperwork Reduction Act of 1995, the IACB has submitted a request for renewal of approval of this information collection to the Office of Management and Budget (OMB), and requests public comments on this submission.

DATES: OMB has up to 60 days to approve or disapprove the information collection request, but may respond after 30 days; therefore, public comments should be submitted to OMB by January 28, 2015, in order to be assured of consideration.

ADDRESSES: Send your written comments by facsimile (202) 395-5806 or email (OIRA_Submission@omb.eop.gov) to the Office of Information and Regulatory Affairs, Office of Management and Budget, Attention: Department of the Interior Desk Officer (1085-0001). Also, please send a copy of your comments to Meridith Z. Stanton, Indian Arts and Crafts Board, U.S. Department of the Interior, MS 2528-MIB, 1849 C Street NW., Washington, DC 20240. If you wish to submit comments by facsimile, the number is (202) 208-5196, or by email to (iacb@ios.doi.gov).

FOR FURTHER INFORMATION CONTACT: Requests for additional information or copies of the Source Directory application and renewal form, i.e., the information collection instrument, should be directed to Meridith Z. Stanton, Director, Indian Arts and Crafts Board, 1849 C Street NW., MS 2528-MIB, Washington, DC 20240. You may also request additional information by telephone (202) 208-3773 (not a toll free call), or by email to (iacb@ios.doi.gov) or by facsimile to (202) 208-5196. You may also review the information collection request online at http://www.reginfo.gov/public/do/PRAMain.

SUPPLEMENTARY INFORMATION:

I. Abstract

The Source Directory of American Indian and Alaska Native owned and operated arts and crafts enterprises is a program of the Indian Arts and Crafts Board that promotes American Indian and Alaska Native arts and crafts. The Source Directory is a listing of American Indian and Alaska Native owned and operated arts and crafts businesses that may be accessed by the public on the Indian Arts and Crafts Board's Web site http://www.iacb.doi.gov/.

The service of being listed in this directory is provided free-of-charge to members of federally recognized tribes. Businesses listed in the Source Directory include American Indian and Alaska Native artists and craftspeople, cooperatives, tribal arts and crafts enterprises, businesses privately-owned-and-operated by American Indian and Alaska Native artists, designers, and craftspeople, and businesses privately owned-and-operated by American Indian and Alaska Native merchants who retail and/or wholesale authentic Indian and Alaska Native arts and crafts. Business listings in the Source Directory are arranged alphabetically by State.

The Director of the Board uses this information to determine whether an individual or business applying to be listed in the Source Directory meets the requirements for listing. The approved application will be printed in the Source Directory. The Source Directory is updated as needed to include new businesses and to update existing information. There is one type of application form, with a box to check what type of listing they are applying for: (1) New businesses—group; (2) new businesses—individual; (3) businesses already listed—group; and (4) businesses already listed—individual.

As required under 5 CFR 1320.8(d), a Federal Register notice soliciting comments on the collection of information was published on August 29, 2014 (79 FR 51582). No comments were received. This notice provides the public with an additional 30 days in which to comment on the following information collection activity.

II. Data

(1) Title: Source Directory of American Indian and Alaska Native Owned and Operated Arts and Crafts Businesses.

OMB Control Number: 1085-0001.

Current Expiration Date: 1/31/2015.

Type of Review: Renewal of an existing collection.

Affected Entities: American Indian owned or operated arts and crafts businesses.

Estimated annual number of respondents: 100.

Frequency of Response: As needed.

(2) Annual Reporting and Record Keeping Burden.

Total Annual Reporting per Respondent: 15 minutes.

Total Annual Burden Hours: 25 hours.

(3) Description of the Need and Use of the Information: Submission of this information is required to receive the benefit of being listed in the Indian Arts and Crafts Board Source Directory. The information is collected to determine the applicant's eligibility for the service and to obtain the applicant's name and business address to be added to the online directory.

(4) As required under 5 CFR 1320.8(d), a Federal Register notice soliciting comments on the information collection was published on August 29, 2014 (79 FR 51582). No comments were received. This notice provides the public with an additional 30 days in which to comment on the proposed information collection activity.

III. Request for Comments

The Department of the Interior invites comments on:

(a) Whether the collection of information is necessary for the proper performance of the functions of the agency, including whether the information will have practical utility;

(b) The accuracy of the agency's estimate of the burden of the collection and the validity of the methodology and assumptions used;

(c) Ways to enhance the quality, utility, and clarity of the information to be collected; and

(d) Ways to minimize the burden of the collection of information on those who are to respond, including through the use of appropriate automated, electronic, mechanical, or other collection techniques or other forms of information technology.

“Burden” means the total time, effort, or financial resources expended by persons to generate, maintain, retain, disclose, or provide information to or for a federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

All written comments, with names and addresses, will be available for public inspection. If you wish us to withhold your personal information, you must prominently state at the beginning of your comment what personal information you want us to withhold. We will honor your request to the extent allowable by law. If you wish to view any comments received, you may do so by scheduling an appointment with the Indian Arts & Crafts Board at the contact information provided in the ADDRESSES section. A valid picture identification is required for entry into the Department of the Interior, 1849 C Street NW., Washington, DC 20240.

An agency may not conduct or sponsor, and a person is not required to respond to, a collection of information unless it displays a currently valid Office of Management and Budget control number.

Dated: December 18, 2014.
Meridith Z. Stanton,
Director, Indian Arts and Crafts Board.

[FR Doc. 2014-30267 Filed 12-24-14; 8:45 am]

BILLING CODE 4334-12-P